DEPARTMENT OF LABOR

Employment and Training Administration

[TA-W-91,051]

Carter Fuel Systems, a Subsidiary of Crowne Group LLC, Including On-Site Leased Workers From Aerotek, Crossfire Group, and Entegee Engineering, Logansport, Indiana; Amended Certification Regarding Eligibility To Apply for Worker Adjustment Assistance

In accordance with Section 223 of the Trade Act of 1974, as amended (“Act”), 19 U.S.C. 2273, the Department of Labor issued a Certification of Eligibility to Apply for Worker Adjustment Assistance on April 24, 2016, applicable to workers of Carter Fuel Systems, a subsidiary of Crowne Group LLC, including on-site leased workers from Aerotek and CrossFire Group, Logansport, Indiana (TA-W-91,051). The Department's notice of determination was published in the Federal Register on May 24, 2016 (81 FR 32783).

At the request of the company official of the workers' firm, the Department reviewed the certification for workers of the subject firm. The workers were engaged in activities related to the production of fuel pumps.

The company reports that workers leased from Entegee Engineering were employed on-site at the Logansport, Indiana location of Carter Fuel Systems, a subsidiary of Crowne Group LLC. The Department has determined that these workers were sufficiently under the control of the subject firm to be considered leased workers. The intent of the Department's certification is to include all workers of the subject firm who were adversely affected by acquisition of fuel pumps or articles like or directly competitive from a foreign country.

Based on these findings, the Department is amending this certification to include workers leased from Entegee Engineering working on-site at the Logansport, Indiana location of Carter Fuel Systems, a subsidiary of Crowne Group LLC.

The amended notice applicable to TA-W-91,051 is hereby issued as follows:

All workers of Carter Fuel Systems, a subsidiary of Crowne Group LLC, including on-site leased workers from Aerotek, CrossFire Group, and Entegee Engineering, Logansport, Indiana who became totally or partially separated from employment on or after October 1, 2014 through April 24, 2018 and all workers in the group threatened with total or partial separation from employment on date of certification through two years from the date of certification, are eligible to apply for adjustment assistance under Chapter 2 of Title II of the Trade Act of 1974, as amended.

Signed in Washington, DC, this 16th day of August 2016.
Hope D. Kinglock,
Certifying Officer, Office of Trade Adjustment Assistance.

[FR Doc. 2016-23029 Filed 9-23-16; 8:45 am]

BILLING CODE 4510-FN-P